DEPARTMENT OF TRANSPORTATION

Federal Aviation Administration

14 CFR Part 39

[Docket No. FAA-2012-0807; Directorate Identifier 2011-NM-191-AD]

RIN 2120-AA64

Airworthiness Directives; Airbus Airplanes

AGENCY: Federal Aviation Administration (FAA), DOT.

ACTION: Supplemental notice of proposed rulemaking (NPRM); reopening of comment period.

SUMMARY: We are revising an earlier proposed airworthiness directive (AD) for all Airbus Model A318 series airplanes, and Model A319, A320, and A321 series airplanes. The NPRM proposed identifying the part number and serial number of each passenger oxygen container, replacing the oxygen generator manifold of the affected oxygen container with a serviceable manifold, and performing an operational check of the manual mask release, and corrective actions if necessary. The NPRM was prompted by reports of silicon particles inside the oxygen generator manifolds, which had chafed from the mask hoses during installation onto the generator outlets. This action revises the NPRM by adding airplanes to the applicability, adding a new check for part numbers, corrective actions if necessary, and reducing the compliance time for certain actions. We are proposing this AD to detect and correct non-serviceable oxygen generator manifolds, which could reduce or block the oxygen supply and result in injury to passengers when oxygen supply is needed. Since these actions impose an additional burden over that proposed in the NPRM, we are reopening the comment period to allow the public the chance to comment on these proposed changes.

DATES: We must receive comments on this proposed AD by March 27, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For Airbus service information identified in this proposed AD, contact Airbus, Airworthiness Office—EIAS, 1 Rond Point Maurice Bellonte, 31707 Blagnac Cedex, France; telephone +33 5 61 93 36 96; fax +33 5 61 93 44 51; email account.airworth-eas@airbus.com; Internet http://www.airbus.com. For B/E service information identified in this proposed AD, contact B/E Aerospace Systems GmbH, Revalstrasse 1, 23560 Lubeck, Germany; telephone (49) 451 4093-2976; fax (49) 451 4093-4488. You may view this referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, Washington 98057-3356; telephone (425) 227-1405; fax (425) 227-1149.

SUPPLEMENTARY INFORMATION:

Comments Invited

We invite you to send any written relevant data, views, or arguments about this proposed AD. Send your comments to an address listed under the ADDRESSES section. Include “Docket No. FAA-2012-0807; Directorate Identifier 2011-NM-191-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We proposed to amend 14 CFR part 39 with an earlier NPRM for the specified products, which was published in the Federal Register on August 16, 2012 (77 FR 49386). The NPRM proposed to require actions intended to address the unsafe condition for the specified products.

Since the NPRM (77 FR 49386, August 16, 2012) was issued, we have determined that Airbus Model A318-121 and A318-122 airplanes also are affected by the identified unsafe condition of this AD, and therefore we have added them to the applicability paragraph of this AD. We are also making the following changes to the NPRM:

• We have extended the compliance time for certain actions;

• The affected part numbers specified by the NPRM (77 FR 49386, August 16, 2012) have been changed in this supplemental NPRM (SNPRM); and

• A new check for part numbers and a corrective action have been added.

The European Aviation Safety Agency (EASA), which is the Technical Agent for the Member States of the European Community, has issued EASA Airworthiness Directive 2012-0083, dated May 16, 2012 (referred to after this as the Mandatory Continuing Airworthiness Information, or “the MCAI”), to correct an unsafe condition for the specified products. The MCAI states:

During production of passenger oxygen containers, the manufacturer B/E Aerospace detected some silicon particles inside the oxygen generator manifolds. Investigation revealed that those particles (chips) had chafed from the mask hoses during installation onto the generator outlets. It was discovered that a defective mask hose installation device had caused the chafing.

This condition, if not detected and corrected, could reduce or block the oxygen supply, possibly resulting in injury to passengers when oxygen supply is needed.

To address this potential unsafe condition, EASA issued AD 2011-0167 [(http://ad.easa.europa.eu/blob/easa_ad_2011_0167_superseded.pdf/AD_2011-0167_1)] to require the identification and modification of the affected oxygen container assemblies. That AD also prohibited the installation of the affected containers on any aeroplane as replacement parts.

Since that AD was issued, it was established that the Models A318-121 and A318-122 were missing from the Applicability of the AD, and clarification was necessary regarding the affected containers, which are only those marked B/E Aerospace Systems on the equipment data plate.

For the reasons described above, this [EASA] AD retains the requirements of EASA AD 2011-0167, which is superseded, expands the Applicability by adding two aeroplane models, and provides clarity by providing a list of affected passenger oxygen containers.

Required actions also include replacing the oxygen generator manifold of the affected oxygen container with a serviceable manifold, doing an operational check of the manual mask release, and repairing the passenger oxygen container if necessary.

You may examine the MCAI in the AD docket on the Internet at http://www.regulations.gov by searching for and locating it in Docket No. FAA-2012-0807.

Comments

We gave the public the opportunity to comment on the NPRM (77 FR 49386, August 16, 2012). The following presents the comments received on the NPRM and the FAA's response to each comment.

Request To Remove Sentence

Airbus requested that we revise paragraph (h) of the NPRM (77 FR 49386, August 16, 2012) to remove the sentence, “If the operational check fails, before further flight, repair, using a method approved by either the Manager, International Branch, ANM 116, Transport Airplane Directorate, FAA; or the European Aviation Safety Agency (or its delegated agent).” Airbus explained that the sentence is already covered by instructions for the repair that exist in standard practices.

We disagree with the commenter's request to remove the sentence that specifies accomplishing a repair if an operational test fails. This SNPRM proposes that corrective actions must be done to ensure the identified unsafe condition is addressed. Also, since each operator may be using different instructions for doing a repair, we cannot reference any particular instructions. We have not changed the SNPRM in this regard.

Request To Correct Typographical Error

Airbus requested that we revise the NPRM (77 FR 49386, August 16, 2012) to correct a typographical error. Airbus explained that the NPRM lists B/E Aerospace Service Bulletin 1XCXX-0100-35-005, Revision 1, dated December 15, 2012, but stated that the date of this service bulletin is December 15, 2011.

We disagree to revise the SNPRM. Airbus has since confirmed that the correct date for B/E Aerospace Service Bulletin 1XCXX-0100-35-005, Revision 1, is December 15, 2012, as referenced in the NPRM (77 FR 49386, August 16, 2012). We have not changed the SNPRM in this regard.

FAA's Determination and Requirements of This Proposed AD

In many FAA transport ADs, when the service information specifies to contact the manufacturer for further instructions if certain discrepancies are found, we typically include in the FAA AD a requirement to accomplish the action using a method approved by either the FAA or the State of Design Authority (or its delegated agent).

We have recently been notified that certain laws in other countries do not allow such delegation of authority, but some countries do recognize design approval organizations. In addition, we have become aware that some U.S. operators have used repair instructions that were previously approved by a State of Design Authority or a Design Approval Holder (DAH) as a method of compliance with this provision in FAA ADs. Frequently, in these cases, the previously approved repair instructions come from the airplane structural repair manual or DAH repair approval statements that were not specifically developed to address the unsafe condition corrected by the AD. Using repair instructions that were not specifically approved for a particular AD creates the potential for doing repairs that were not developed to address the unsafe condition identified by the MCAI AD, the FAA AD, or the applicable service information, which could result in the unsafe condition not being fully corrected.

To prevent the use of repairs that were not specifically developed to correct the unsafe condition, this proposed AD would require that the repair approval specifically refer to the FAA AD. This change is intended to clarify the method of compliance and to provide operators with better visibility of repairs that are specifically developed and approved to correct the unsafe condition. In addition, we use the phrase “its delegated agent, or the DAH with the State of Design Authority's design organization approval, as applicable” in this proposed AD to refer to a DAH authorized to approve required repairs for this proposed AD.

Certain changes described above expand the scope of the NPRM (77 FR 49386, August 16, 2012). As a result, we have determined that it is necessary to reopen the comment period to provide additional opportunity for the public to comment on this proposed AD.

Costs of Compliance

We estimate that this proposed AD affects 22 airplanes of U.S. registry.

We estimate the following costs to comply with this proposed AD:

Estimated Costs
Action | Labor cost | Parts cost | Cost per product | Cost on U.S. operators
Replacement (The average number of oxygen containers per airplane is 50) | 3 work-hours × $85 per hour = $255 | $0 | $255 | $5,610
Operational Check | 3 work-hours × $85 per hour = $255 | 0 | 255 | 5,610

We estimate the following costs to do any necessary repairs that would be required based on the results of the proposed inspection. We have no way of determining the number of aircraft that might need these repairs:

On-Condition Costs
Action | Labor cost | Parts cost | Cost per product
Repair (from operational check) | 1 work-hour × $85 per hour = $85 | $0 | $85
Repair (from part number check of the passenger oxygen container) | 1 work-hour × $85 per hour = $85 | 0 | 85

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2012-0807; Directorate Identifier 2011-NM-191-AD.

(a) Comments Due Date

We must receive comments by March 27, 2014.

(b) Affected ADs

None.

(c) Applicability

This AD applies to Airbus Model A318-111, -112, -121, and -122 airplanes; A319-111, -112, -113, -114, -115, -131, -132, and -133 airplanes; A320-111, -211, -212, -214, -231, -232, and -233 airplanes; A321-111, -112, -131, -211, -212, -213, -231, and -232 airplanes; certificated in any category; all manufacturer serial numbers (MSN).

(d) Subject

Air Transport Association (ATA) of America Code 35, Oxygen.

(e) Reason

This AD was prompted by reports of silicon particles inside the oxygen generator manifolds, which had chafed from the mask hoses during installation onto the generator outlets. We are issuing this AD to detect and correct non-serviceable oxygen generator manifolds, which could reduce or block the oxygen supply, which could result in injury to passengers when oxygen supply is needed.

(f) Compliance

You are responsible for having the actions required by this AD performed within the compliance times specified, unless the actions have already been done.

(g) Part Number and Serial Number Identification

Within 5,000 flight cycles, or 7,500 flight hours, or 24 months, whichever occurs first after the effective date of this AD, identify the part number and serial number of each passenger oxygen container. A review of airplane maintenance records is acceptable in lieu of this identification if the part number and serial number of the oxygen container can be conclusively determined from that review.

(h) Replacement, Check, Repair

If the part number of the passenger oxygen container is listed in paragraph (h)(1) of this AD and the serial number of the passenger oxygen container is listed in paragraph (h)(2) of this AD: Within the compliance time specified in paragraph (g) of this AD, do the actions specified in paragraphs (h)(3), (h)(4), and (h)(5) of this AD, except as provided by paragraphs (i)(1) through (i)(7) of this AD.

(1) (Type I: 15 and 22 minutes) 12C15LXXXXX0100, 12C15RXXXXX0100, 13C15LXXXXX0100, 13C15RXXXXX0100, 14C15LXXXXX0100, 14C15RXXXXX0100, 12C22LXXXXX0100, 12C22RXXXXX0100, 13C22LXXXXX0100, 13C22RXXXXX0100, 14C22LXXXXX0100, and 14C22RXXXXX0100; and (Type II: 15 and 22 minutes) 22C15LXXXXX0100, 22C15RXXXXX0100, 22C22LXXXXX0100, and 22C22RXXXXX0100.

Note 1 to paragraph (h)(1) of this AD: The passenger emergency oxygen container assemblies listed in paragraph (h)(1) of this AD are products having the mark “B/E AEROSPACE” on the identification plate.

(2) ARBA-0000 to ARBA-9999 inclusive, ARBB-0000 to ARBB-9999 inclusive, ARBC-0000 to ARBC-9999 inclusive, ARBD-0000 to ARBD-9999 inclusive, ARBE-0000 to ARBE-9999 inclusive, BEBF-0000 to BEBF-9999 inclusive, BEBH-0000 to BEBH-9999 inclusive, BEBK-0000 to BEBK-9999 inclusive, BEBL-0000 to BEBL-9999 inclusive, and BEBM-0000 to BEBM-9999 inclusive.

(3) Replace the oxygen generator manifold of the affected oxygen passenger container with a serviceable manifold, in accordance with the Accomplishment Instructions of Airbus Service Bulletin A320-35A1047, dated March 29, 2011.

(4) Do an operational check of the manual mask release, in accordance with the Accomplishment Instructions of Airbus Service Bulletin A320-35A1047, dated March 29, 2011. If the operational check fails, before further flight, repair using a method approved by the Manager, International Branch, ANM-116, Transport Airplane Directorate, FAA; or the European Aviation Safety Agency (EASA) (or its delegated agent, or the Design Approval Holder with EASA's design organization approval, as applicable). For a repair method to be approved, the repair approval must specifically refer to this AD.

(5) Check if the part number of the passenger oxygen container is listed in B/E Aerospace Service Bulletin 1XCXX-0100-35-005, Revision 1, dated December 15, 2012; or B/E Aerospace Service Bulletin 22CXX-0100-35-003, Revision 1, dated December 20, 2011. If the part number is listed in B/E Aerospace Service Bulletin 1XCXX-0100-35-005, Revision 1, dated December 15, 2012; or B/E Aerospace Service Bulletin 22CXX-0100-35-003, Revision 1, dated December 20, 2011; within the compliance time specified in paragraph (g) of this AD, repair using a method approved by the Manager, International Branch, ANM-116, Transport Airplane Directorate, FAA; or EASA (or its delegated agent, or the Design Approval Holder with EASA's design organization approval, as applicable). For a repair method to be approved, the repair approval must specifically refer to this AD.

(i) Exceptions

(1) Oxygen containers that meet the conditions specified in paragraph (i)(1)(i) or (i)(1)(ii) of this AD are compliant with the requirements of paragraph (h) of this AD.

(i) Oxygen containers Type I having a part number listed in paragraph (h)(1) of this AD and having a serial number listed in paragraph (h)(2) of this AD, that have been modified prior to the effective date of this AD, as specified in the Accomplishment Instructions of B/E Aerospace Service Bulletin 1XCXX-0100-35-005, Revision 1, dated December 15, 2012.

(ii) Oxygen containers Type II having a part number listed in paragraph (h)(1) of this AD and having a serial number listed in paragraph (h)(2) of this AD, that have been modified prior to the effective date of this AD, as specified in the Accomplishment Instructions of B/E Aerospace Service Bulletin 22CXX-0100-35-003, Revision 1, dated December 20, 2011.

(2) Airplanes on which Airbus Modification 150703 or Airbus Modification 150704 has not been embodied in production do not have to comply with the requirements of paragraph (h) of this AD, unless an oxygen container having a part number listed in paragraph (h)(1) of this AD and having a serial number listed in paragraph (h)(2) of this AD has been replaced since the airplane's first flight.

(3) Airplanes on which Airbus Modification 150703 or Airbus Modification 150704 has been embodied in production and which are not listed by model and MSN in Airbus Service Bulletin A320-35A1047, dated March 29, 2011, are not subject to the requirements of paragraphs (g) and (h) of this AD, unless an oxygen container having a part number listed in paragraph (h)(1) of this AD and having a serial number listed in paragraph (h)(2) of this AD has been replaced since the airplane's first flight.

(4) Model A319 airplanes that are equipped with a gaseous oxygen system for passengers, installed in production with Airbus Modification 33125, do not have the affected passenger oxygen containers installed. Unless these airplanes have been modified in-service (no approved Airbus modification exists), the requirements of paragraphs (g) and (h) of this AD do not apply to these airplanes.

(5) Airplanes that have already been inspected prior to the effective date of this AD, in accordance with the Accomplishment Instructions of Airbus Service Bulletin A320-35A1047, dated March 29, 2011, must be inspected and, depending on findings, corrected, within the compliance time defined in paragraph (g) of this AD, as required by paragraph (h) of this AD, as applicable, except as specified in paragraph (i)(6) of this AD.

(6) Airplanes on which the passenger oxygen container has been replaced before the effective date of this AD in accordance with the Accomplishment Instructions of Airbus Service Bulletin A320-35A1047, dated March 29, 2011, are compliant with the requirements of the paragraph (h) of this AD for that passenger oxygen container.

(7) The requirements of paragraphs (g) and (h) of this AD apply only to passenger oxygen containers that are Design A, as defined in figure 1 to paragraph (i)(7) of this AD.

BILLING CODE 4910-13-P

Note 1 to figure 1 to paragraph (i)(7) of this AD: Figure 1 to paragraph (i)(7) of this AD contains the information specified in Appendix 1 of EASA Airworthiness Directive 2012-0083, dated May 16, 2012.

(j) Parts Installation Limitations

As of the effective date of this AD, no person may install an oxygen container having a part number specified in paragraph (h)(1) of this AD and having a serial number specified in paragraph (h)(2) of this AD, on any airplane, unless the container has been modified in accordance with the Accomplishment Instructions of any of the service bulletins specified in paragraph (j)(1), (j)(2), or (j)(3) of this AD, as applicable.

(1) Airbus Service Bulletin A320-35A1047, dated March 29, 2011.

(2) B/E AEROSPACE Service Bulletin 1XCXX-0100-35-005, Revision 1, dated December 15, 2012.

(3) B/E AEROSPACE Service Bulletin 22CXX-0100-35-003, Revision 1, dated December 20, 2011.

(k) Credit for Previous Actions

This paragraph provides credit for the actions required by paragraph (h) of this AD, if those actions were performed before the effective date of this AD using the service information specified in paragraph (k)(1) or (k)(2) of this AD.

(1) B/E AEROSPACE Service Bulletin 1XCXX-0100-35-005, dated March 14, 2011.

(2) B/E AEROSPACE Service Bulletin 22CXX-0100-35-003, dated March 17, 2011.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, Washington 98057-3356; telephone (425) 227-1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer, use these actions if they are FAA-approved. Corrective actions are considered FAA-approved if they were approved by the State of Design Authority (or its delegated agent, or the Design Approval Holder with a State of Design Authority's design organization approval, as applicable). For a repair method to be approved, the repair approval must specifically refer to this AD. You are required to ensure the product is airworthy before it is returned to service.

(m) Related Information

(1) Refer to Mandatory Continuing Airworthiness Information European Aviation Safety Agency Airworthiness Directive 2012-0083, dated May 16, 2012, for related information. This may be found in the AD docket on the Internet at http://www.regulations.gov by searching for and locating it in Docket No. FAA-2012-0807.

(2) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. For B/E service information identified in this proposed AD, contact B/E Aerospace Systems GmbH, Revalstrasse 1, 23560 Lubeck, Germany; telephone (49) 451 4093-2976; fax (49) 451 4093-4488. You may view this referenced service information at the FAA, Transport Airplane Directorate, 1601 Lind Avenue SW., Renton, WA. For information on the availability of this material at the FAA, call 425-227-1221.

Issued in Renton, Washington, on January 21, 2014.
Jeffrey E. Duven,
Manager, Transport Airplane Directorate, Aircraft Certification Service.

[FR Doc. 2014-02722 Filed 2-7-14; 8:45 am]

BILLING CODE 4910-13-C